ENVIRONMENTAL PROTECTION AGENCY

[FRL-8276-2]

Good Neighbor Environmental Board

AGENCY: Environmental Protection Agency (EPA).

ACTION: Notice of meeting.

Background: Under the Federal Advisory Committee Act, P.L. 92463, EPA gives notice of a meeting of the Good Neighbor Environmental Board. The Board meets three times each calendar year at different locations along the U.S.-Mexico border and in Washington, DC. It was created by the Enterprise for the Americas Initiative Act of 1992. An Executive Order delegates implementing authority to the Administrator of EPA. The Board is responsible for providing advice to the President and the Congress on environmental and infrastructure issues and needs within the States contiguous to Mexico. The statute calls for the Board to have representatives from U.S. Government agencies; the States of Arizona, California, New Mexico and Texas; tribal representation; and a variety of non-governmental officials.

Purpose: One purpose of this meeting is to obtain feedback on the theme of the Board's Tenth Report, which is on the intersection of border security and the environment. Another purpose is to obtain early input on the theme selected for its Eleventh Report, natural hazards and the environment. The meeting also will include a strategic planning session, a business meeting, and a public comment session. It will be preceded by a public press conference to launch the Tenth Report. A copy of the meeting agenda will be posted at http://www.epa.gov/ocem/gneb.

DATES: The Good Neighbor Environmental Board will hold an open meeting on Tuesday, March 13, from 9 a.m. (registration at 8:30 a.m.) to 5:30 p.m. and Wednesday, March 14, from 8 a.m. (registration 7:30 a.m.) to 5 p.m.

ADDRESSES: The meeting will be held at the Hotel Washington, Sky Room, Pennsylvania Avenue and 15th Street, NW., Washington, DC. Telephone: 202-638-5900. The meeting is open to the public, with limited seating on a first-come, first-served basis.

FOR FURTHER INFORMATION CONTACT: Elaine Koerner, Designated Federal Officer, koerner.elaine@epa.gov, 202-233-0069, U.S. EPA, Office of Cooperative Environmental Management (1601E), 1200 Pennsylvania Avenue NW., Washington, DC 20460.

SUPPLEMENTARY INFORMATION: Requests to make brief oral comments or provide written statements to the Board should be sent to Elaine Koerner, Designated Federal Officer, at the contact information above.

Meeting Access: For information on access or services for individuals with disabilities, please contact Elaine Koerner at 202-233-0069 or koerner.elaine@epa.gov. To request accommodation of a disability, please contact Elaine Koerner, preferably at least 10 days prior to the meeting, to give EPA as much time as possible to process your request.

Dated: January 25, 2007.
Elaine Koerner,
Designated Federal Officer.

[FR Doc. E7-2005 Filed 2-6-07; 8:45 am]

BILLING CODE 6560-50-P